DEPARTMENT OF TRANSPORTATION

Federal Aviation Administration

14 CFR Part 39

[Docket No. FAA-2020-0784; Product Identifier 2016-SW-087-AD; Amendment 39-21240; AD 2020-18-19]

RIN 2120-AA64

Airworthiness Directives; Leonardo S.p.a. Helicopters

AGENCY: Federal Aviation Administration (FAA), Department of Transportation (DOT).

ACTION: Final rule; request for comments.

SUMMARY: The FAA is superseding Airworthiness Directive (AD) 2014-12-07 for Agusta S.p.A (Agusta) Model AB412 and AB412EP helicopters. AD 2014-12-07 requires inspecting the rotor brake pinion (pinion) for a crack and replacing it if there is a crack. This AD retains the requirements of AD 2014-12-07 and also requires removing certain serial-numbered pinions from service. This AD was prompted by a report of an additional cracked pinion. The actions of this AD are intended to address an unsafe condition on these products.

DATES: This AD becomes effective September 21, 2020.

The FAA must receive comments on this AD by October 19, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0784; or in person at the Docket Operations Office between 9 a.m. and 5 p.m., Monday through Friday, except Federal holidays. The AD docket contains this AD, the European Aviation Safety Agency (now European Union Aviation Safety Agency) (EASA) AD, any comments received, and other information. The street address for Docket Operations is listed above.

For service information identified in this final rule, contact Leonardo S.p.a. Helicopters, Emanuele Bufano, Head of Airworthiness, Viale G.Agusta 520, 21017 C.Costa di Samarate (Va) Italy; telephone +39-0331-225074; fax +39-0331-229046; or at https://www.leonardocompany.com/en/home. You may view the referenced service information at the FAA, Office of the Regional Counsel, Southwest Region, 10101 Hillwood Pkwy., Room 6N-321, Fort Worth, TX 76177.

FOR FURTHER INFORMATION CONTACT: Matt Fuller, AD Program Manager, Continued Operational Safety Branch, Airworthiness Products Section, General Aviation and Rotorcraft Unit, 10101 Hillwood Pkwy., Fort Worth, TX 76177; telephone 817-222-5110; email Matthew.Fuller@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time. Except for Confidential Business Information (CBI) as described in the following paragraph, and other information as described in 14 CFR 11.35, the FAA will file in the docket all comments received, as well as a report summarizing each substantive public contact with FAA personnel concerning this rulemaking during the comment period. The FAA will consider all the comments received and may conduct additional rulemaking based on those comments.

Confidential Business Information

Confidential Business Information (CBI) is commercial or financial information that is both customarily and actually treated as private by its owner. Under the Freedom of Information Act (FOIA) (5 U.S.C. 552), CBI is exempt from public disclosure. If your comments responsive to this final rule contain commercial or financial information that is customarily treated as private, that you actually treat as private, and that is relevant or responsive to this final rule, it is important that you clearly designate the submitted comments as CBI. Please mark each page of your submission containing CBI as “PROPIN.” The FAA will treat such marked submissions as confidential under the FOIA, and they will not be placed in the public docket of this final rule. Submissions containing CBI should be sent to Matt Fuller, AD Program Manager, Continued Operational Safety Branch, Airworthiness Products Section, General Aviation and Rotorcraft Unit, 10101 Hillwood Pkwy., Fort Worth, TX 76177; telephone 817-222-5110; email Matthew.Fuller@faa.gov. Any commentary that the FAA receives which is not specifically designated as CBI will be placed in the public docket for this rulemaking.

Discussion

The FAA issued AD 2014-12-07 (79 FR 35035, June 19, 2014) (“2014-12-07”), for Agusta Model AB412 and AB412EP helicopters with a pinion part number (P/N) 412-040-301-101 installed. AD 2014-12-07 requires within 100 hours time-in-service (TIS), magnetic particle inspecting each pinion for a crack and replacing the pinion if there is a crack. AD 2014-12-07 was prompted by EASA AD No. 2013-0187, dated August 16, 2013 (EASA AD 2013-0187), issued by EASA, which is the Technical Agent for the Member States of the European Union. EASA advised of a report of a cracked pinion installed in the rotor brake quill that was discovered during a magnetic particle inspection (MPI). EASA further stated the crack was caused by residual stress generated during the manufacturing process. According to EASA, if not corrected, this condition could result in failure of the pinion with detachment of parts inside the transmission that could cause its malfunction or jamming, ultimately resulting in loss of control of the helicopter. To correct this unsafe condition, EASA AD 2013-0187 required an MPI of the pinion, and if there is a crack, replacing the pinion.

Actions Since AD 2014-12-07 Was Issued

Since the FAA issued AD 2014-12-07, EASA issued AD No. 2016-0244, dated December 14, 2016 (EASA AD 2016-0244), which supersedes EASA AD 2013-0187. EASA advises of another cracked pinion due to a defect generated during the manufacturing process. Accordingly, EASA AD 2016-0244 retains the MPI requirements of EASA AD 2013-0187 and requires inspecting the helicopter within three months to determine if certain serial-numbered pinions from the defective manufacturing batch are installed and removing any affected pinions before further flight.

Also, since the FAA issued AD 2014-12-07, Agusta changed its name to Leonardo S.p.a. This AD reflects that change and updates the contact information to obtain service documentation.

FAA's Determination

These helicopters have been approved by EASA and are approved for operation in the United States. Pursuant to the FAA's bilateral agreement with the European Union, EASA has notified the FAA about the unsafe condition described in its AD. The FAA is issuing this AD after evaluating all known relevant information and determining that an unsafe condition is likely to exist or develop on other helicopters of the same type design.

Related Service Information

The FAA reviewed Leonardo Helicopters Bollettino Tecnico (BT) No. 412-147, dated September 12, 2016, which specifies identifying the serial numbers of the pinion, P/N 412-040-301-101, and removing certain pinions from service.

The FAA also reviewed AgustaWestland BT No. 412-135, Revision A, dated July 29, 2013, which describes procedures for a one-time MPI of pinion P/N 412-040-301-101.

AD Requirements

This AD requires, within 75 hours TIS, removing from service pinion P/N 412-040-301-101 having serial number (S/N) C17987, C17990, or C17991. This AD also requires, within 100 hours TIS, performing an MPI for a crack on each pinion P/N 412-040-301-101 if the rotor brake quill has never been overhauled. If there is a crack, this AD requires, before further flight, removing the pinion from service. Finally, this AD prohibits installing pinion P/N 412-040-301-101 having S/N C17987, C17990, or C17991 on any helicopter.

Differences Between This AD and the EASA AD

The EASA AD requires removing from service certain pinions within 3 months; this AD requires removing these pinions within 75 hours TIS. The EASA AD also requires the MPI to be performed within 100 flight hours or 5 months, whichever occurs first; this AD requires compliance within 100 hours TIS. The EASA AD only prohibits installing pinion P/N 412-040-301-101 having serial number S/N C17987 or C17991, whereas this AD prohibits installing pinion P/N 412-040-301-101 having S/N C17987, C17990, or C17991.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance with this AD because there are no helicopters with this type certificate on the U.S. Registry.

FAA's Justification and Determination of the Effective Date

Section 553(b)(3)(B) of the Administrative Procedure Act (5 U.S.C.) authorizes agencies to dispense with notice and comment procedures for rules when the agency, for “good cause,” finds that those procedures are “impracticable, unnecessary, or contrary to the public interest.” Under this section, an agency, upon finding good cause, may issue a final rule without seeking comment prior to the rulemaking.

There are no helicopters with this type certificate on the U.S. Registry. Therefore, the FAA finds good cause that notice and opportunity for prior public comment are unnecessary pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed above, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-12-07, Amendment 39-17868 (79 FR 35035, June 19, 2014); and

b. Adding the following new AD:

2020-18-19 Leonardo S.p.a.: Amendment 39-21240; Docket No. FAA-2020-0784; Product Identifier 2016-SW-087-AD.

(a) Applicability

This AD applies to Leonardo S.p.a. Model AB412 and AB412EP helicopters, certificated in any category, with a rotor brake pinion (pinion) part number (P/N) 412-040-301-101 installed.

(b) Unsafe Condition

This AD defines the unsafe condition as a crack in a pinion. This condition could result in failure of a pinion, detachment of parts inside the transmission causing a malfunction or jamming, and subsequent loss of control of the helicopter.

(c) Affected ADs

This AD supersedes AD 2014-12-07, Amendment 39-17868 (79 FR 35035, June 19, 2014).

(d) Effective Date

This AD becomes effective September 21, 2020.

(e) Compliance

You are responsible for performing each action required by this AD within the specified compliance time unless it has already been accomplished prior to that time.

(f) Required Actions

(1) Within 75 hours time-in-service (TIS), remove from service:

(i) Pinion P/N 412-040-301-101 with serial number C17987;

(ii) Pinion P/N 412-040-301-101 with serial number C17990; and

(iii) Pinion P/N 412-040-301-101 with serial number C17991.

(2) Within 100 hours TIS, if the rotor brake quill has never been overhauled, perform a magnetic particle inspection on each pinion for a crack. If there is a crack, before further flight, remove the pinion from service.

(3) As of the effective date of this AD, do not install pinion P/N 412-040-301-101 with serial number C17987, C17990, or C17991 on any helicopter.

(g) Special Flight Permits

Special flight permits are prohibited.

(h) Alternative Methods of Compliance (AMOCs)

(1) The Manager, Rotorcraft Standards Branch, FAA, may approve AMOCs for this AD. Send your proposal to: Matt Fuller, AD Program Manager, Continued Operational Safety Branch, Airworthiness Products Section, General Aviation and Rotorcraft Unit, 10101 Hillwood Pkwy., Fort Worth, TX 76177; telephone 817-222-5110; email Matthew.Fuller@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Leonardo Helicopters Bollettino Tecnico (BT) No. 412-147, dated September 12, 2016, and AgustaWestland BT No. 412-135, Revision A, dated July 29, 2013, which are not incorporated by reference, contain additional information about the subject of this AD. For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may review a copy of the service information at the FAA, Office of the Regional Counsel, Southwest Region, 10101 Hillwood Pkwy, Room 6N-321, Fort Worth, TX 76177.

(2) The subject of this AD is addressed in European Aviation Safety Agency (now European Union Aviation Safety Agency) (EASA) No. AD 2016-0244, dated December 14, 2016. You may view the EASA AD on the internet at https://www.regulations.gov by searching for and locating it in Docket No. FAA-2020-0784.

(j) Subject

Joint Aircraft Service Component (JASC) Code: 6321, Main Rotor Brake.

Issued on August 31, 2020.
Gaetano A. Sciortino,
Deputy Director for Strategic Initiatives, Compliance & Airworthiness Division, Aircraft Certification Service.

[FR Doc. 2020-19533 Filed 9-3-20; 8:45 am]

BILLING CODE 4910-13-P